DEPARTMENT OF LABOR

Employment and Training Administration

[TA-W-55,495]

Tesco Technologies, LLC, Headquarters Office, Auburn Hills, MI; Notice of Negative Determination on Reconsideration

On December 7, 2004, the Department issued a Notice of Affirmative Determination Regarding Application for Reconsideration for the workers and former workers of the subject firm. The notice was published in the Federal Register on December 20, 2004 (69 FR 76017).

The Department initially denied workers of Tesco Technologies, LLC, Headquarters Office, Auburn Hills, Michigan due to the lack of shift of production of assembly line equipment abroad and lack of import purchases during the relevant period.

In the request for reconsideration, the petitioner alleged that the workers worked “strictly on General Motors Programs” and that work shifted to India.

During the reconsideration investigation, the Department contacted the company and was informed that there was no shift of production abroad.

The Department contacted the two individuals of General Motors identified by the petitioner. One informed the Department that there was no outsourcing to India and the other contact advised that he was not a General Motors official and declined to make any comment.

The Department contacted another General Motors official that stated the subject company lost a major contract to a domestic competitor and that some design work was moved in-house.

Conclusion

After reconsideration, I affirm the original notice of negative determination of eligibility to apply for worker adjustment assistance for workers and former workers of Tesco Technologies, LLC, Headquarters Office, Auburn Hills, Michigan.

Signed in Washington, DC, this 11th day of January, 2005.
Linda G. Poole,
Certifying Officer, Division of Trade Adjustment Assistance.

[FR Doc. E5-203 Filed 1-19-05; 8:45 am]

BILLING CODE 4510-30-P